DEPARTMENT OF LABOR

Employment and Training Administration

Notice of a Virtual Public Meeting of the Advisory Committee on Apprenticeship (ACA)

AGENCY: Employment and Training Administration (ETA), Labor.

ACTION: Notice of a virtual public meeting.

SUMMARY: Pursuant to section 10 of the Federal Advisory Committee Act (FACA) (5 U.S.C. App. 2 section 10), notice is hereby given to announce an open virtual meeting of the Advisory Committee on Apprenticeship (ACA) on Thursday, January 28, 2016. The meeting will convene virtually at https://dol.webex.com/dol; information on how to access this meeting will also be posted on the Office of Apprenticeship's homepage: http://www.dol.gov/apprenticeship. The ACA is a discretionary committee established by the Secretary of Labor, in accordance with FACA, as amended in 5 U.S.C. App. 2, and its implementing regulations (41 CFR 101-6 and 102-3). All meetings of the ACA are open to the public. A virtual meeting of the ACA provides a cost savings to the government while still offering a venue that allows for public participation and transparency, as required by FACA.

DATES: The meeting will begin at approximately 1:00 p.m. Eastern Standard Time on Thursday, January 28, 2016, at https://dol.webex.com/dol, and will adjourn at approximately 5:00 p.m. Any updates to the agenda and meeting logistics will be posted on the Office of Apprenticeship's homepage: http://www.dol.gov/apprenticeship.

FOR FURTHER INFORMATION CONTACT: The Designated Federal Official, Mr. John V. Ladd, Administrator, Office of Apprenticeship, Employment and Training Administration, U.S. Department of Labor, 200 Constitution Avenue NW., Room C-5321, Washington, DC 20210, Telephone: (202) 693-2796 (this is not a toll-free number).

SUPPLEMENTARY INFORMATION: In order to promote openness, and increase public participation, webinar and audio conference technology will be used throughout the meeting. Webinar and audio instructions will be prominently posted on the Office of Apprenticeship homepage: http://www.dol.gov/apprenticeship. Members of the public can attend the meeting virtually at https://dol.webex.com/dol; the meeting number is: 647581011 and meeting password is: M33ting#. Members of the public that will participate are encouraged to dial into the web link above 30 minutes prior to the start of the meeting.

Notice of Intent To Attend the Meeting

All meeting participants are being asked to submit a notice of intent to attend by Thursday, January 14, 2016, via email to Mr. John V. Ladd at: oa.administrator@dol.gov, with the subject line “January 2016 Virtual ACA Meeting.”

1. If individuals have special needs and/or disabilities that will require special accommodations, please contact Kenya Huckaby on (202) 693-3795 or via email at huckaby.kenya@dol.gov no later than Thursday, January 14, 2016.

2. Any member of the public who wishes to file written data or comments pertaining to the agenda may do so by sending the data or comments to Mr. John V. Ladd via email at oa.administrator@dol.gov, subject line “January 2016 Virtual ACA Meeting,” or to the Office of Apprenticeship, Employment and Training Administration, U.S. Department of Labor, Room C-5321, 200 Constitution Avenue NW., Washington, DC 20210. Such submissions will be included in the record for the meeting if received by Thursday, January 14, 2016.

3. See below regarding members of the public wishing to speak at the ACA meeting.

Purpose of the Meeting and Topics To Be Discussed

The purpose of the meeting is to focus on apprenticeship awareness, and current partnerships and outreach campaigns in order to seek advice from the ACA on industry issues and how best to increase Registered Apprenticeships across the country and beyond. The agenda will cover the following topics:

• Report on National Apprenticeship Week (NAW)

• Ratio Workgroup Update and Feedback

• International Activities

• State Apprenticeship Agency (SAA) Presentation

• Other Matters of Interest to the Apprenticeship Community

• Public Comment

• Adjourn

The agenda and meeting logistics may be updated should priority items come before the ACA between the time of this publication and the scheduled date of the ACA meeting. All meeting updates will be posted to the Office of Apprenticeship's homepage: http://www.dol.gov/apprenticeship. Any member of the public who wishes to speak at the meeting should indicate the nature of the intended presentation and the amount of time needed by furnishing a written statement to the Designated Federal Official, Mr. John V. Ladd, by Thursday, January 14, 2016. The Chairperson will announce at the beginning of the meeting the extent to which time will permit the granting of such requests.

Portia Wu,
Assistant Secretary for the Employment and Training Administration.

[FR Doc. 2015-31942 Filed 12-18-15; 8:45 am]

BILLING CODE 4510-FR-P